DEPARTMENT OF DEFENSE

Office of the Secretary

Base Closure and Realignment

AGENCY: Office of Economic Adjustment, DoD.

ACTION: Notice.

SUMMARY: This notice is provided pursuant to section 2905(b)(7)(B)(ii) of the Defense Base Closure and Realignment Act of 1990. It provides the point of contact, address, and telephone number for the Local Redevelopment Authority (LRA) for the Pueblo Chemical Depot, Colorado. The Pueblo Depot Activity Development Authority was recognized as the LRA by the Secretary of Defense, acting through the Department of Defense, Office of Economic Adjustment (OEA) on June 29, 1995. The Army Surplus Property Notice for the Pueblo Chemical Depot was published in the Federal Register on December 20, 2013 (78 FR 77108). Representatives of state and local governments, homeless providers, and other parties interested in the redevelopment of the installation should contact this LRA.

FOR FURTHER INFORMATION CONTACT: The following point of contact information will also be published simultaneously in a newspaper of general circulation in the area of the installation. Director, Office of Economic Adjustment, Office of the Secretary of Defense, 2231 Crystal Drive, Suite 520, Arlington, VA 22202-4704, (703) 697-2123.

SUPPLEMENTARY INFORMATION:

Local Redevelopment Authority (LRA)

Colorado

Installation: Name: Pueblo Chemical Depot.

LRA Name: Pueblo Depot Activity Development Authority.

Point of Contact: Mr. Russell A. DeSalvo, President and CEO.

Address: Post Office Box 11467, Pueblo, Colorado, CO 81001-0467.

Phone: (719) 947-3770.

Email address: rdesalvo@PuebloPlex.com.

Dated: January 7, 2014.
Aaron Siegel,
Alternate OSD Federal Register Liaison Officer, Department of Defense.

[FR Doc. 2014-00254 Filed 1-9-14; 8:45 am]

BILLING CODE 5001-06-P